DEPARTMENT OF THE INTERIOR

National Park Service

Notice of Intent to Repatriate a Cultural Item: The Trustees of Reservations, Beverly, MA

AGENCY: National Park Service, Interior.

ACTION: Notice.

Notice is here given in accordance with the Native American Graves Protection and Repatriation Act (NAGPRA), 25 U.S.C. 3005, of the intent to repatriate a cultural item in the possession of The Trustees of Reservations, Beverly, MA, that meets the definition of “object of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The one cultural item is a four-piece pewter communion set. The pieces are one flagon (circa 1825-1854), made by Thomas Danforth Boardman, Hartford, CT (MH.A.E.1); one goblet (circa 1825-1854), made by Sherman Boardman and Thomas Danforth Boardman (MH.A.E.2); one goblet (circa 1820-1850), by an unknown maker (MH.A.E.3); and one charger (circa 1758-1788) possibly made by Joseph Danforth, Middletown, CT (MH.A.E.4).

In the 1730s, the Stockbridge Mohicans, now the Stockbridge Munsee Community, Wisconsin, accepted the Reverend John Sergeant as a Christian missionary in Stockbridge, MA. This communion set was acquired by the tribe's mission church in the early 1800s, when they were living in upstate New York. Around 1911, the communion set was placed in the care of the church by Elder Jamison (Soat) Quinney, for many years the caretaker for objects on behalf of the Stockbridge Munsee Community.

In 1930, Miss Mabel Choate, working through an agent, purchased the communion set, along with a two-volume Bible (returned to the Stockbridge Munsee Community, Wisconsin in 1991), from the John Sergeant Memorial Presbyterian Church in Red Springs, WI., for display at the Mission House Museum in Stockbridge, MA. In 1948, Miss Choate donated the Mission House complete with all its contents, including the communion set, to The Trustees of Reservations.

The cultural item's cultural affiliation with the Stockbridge Munsee Community is established through records held in the archives of the Mission House. Consultation with representatives of the Stockbridge Munsee Community confirmed that no single member nor a group of members of the John Sergeant Memorial Presbyterian Church had the right to sell cultural items owned by the community. The communion set was an integral part of the mission church begun in the 1730s in western Massachusetts and continues to have ongoing historical, traditional, and cultural importance central to the Stockbridge Munsee Community, Wisconsin.

Officials of The Trustees of Reservations have determined that, pursuant to 25 U.S.C. 3001 (3)(D), the cultural item described above has an ongoing historical, traditional, or cultural importance central to the Native American group or culture itself, rather than property owned by an individual. Officials of The Trustees of Reservations also have determined that, pursuant to 25 U.S.C. 3001 (2), there is a relationship of shared group identity that can be reasonably traced between the object of cultural patrimony and the Stockbridge Munsee Community, Wisconsin.

Representatives of any other Indian tribe that believes itself to be culturally affiliated with the object of cultural patrimony should contact Will Garrison, Historic Resources Manager, The Trustees of Reservations, PO Box 792, Stockbridge, MA 01262, telephone (413) 298-8123, before March 24, 2006. Repatriation of the object of cultural patrimony to the Stockbridge Munsee Community, Wisconsin may proceed after that date if no additional claimants come forward.

The Trustees of Reservations is responsible for notifying the Stockbridge Munsee Community, Wisconsin that this notice has been published.

Dated: February 2, 2006.
C. Timothy McKeown,
Acting Manager, National NAGPRA Program.

[FR Doc. E6-2480 Filed 2-21-06; 8:45 am]

BILLING CODE 4312-50-S